DEPARTMENT OF HOMELAND SECURITY

[Docket No. DHS-2009-0003]

Homeland Security Information Network Advisory Committee

ACTION: Committee Management; Notice of Federal Advisory Committee Meeting.

SUMMARY: The Homeland Security Information Network Advisory Committee (HSINAC) will meet from February 10-February 12, 2009, in Potomac, MD. The meeting will be open to the public.

DATES: The HSINAC will meet Tuesday, February 10, 2009, from 8 a.m. to 6 p.m., Wednesday, February 11, 2009, from 8 a.m. to 6 p.m. and on Thursday, February 12, 2009, from 8 a.m. to 1:30 p.m. Please note that the meeting may close early if the committee has completed its business.

ADDRESSES: The meeting will be held at the Bolger Center, 9600 Newbridge Drive, Potomac, MD 20854-4436. Send written material, comments, and requests to make oral presentations to Niklaus Welter, Department of Homeland Security, 245 Murray Lane, SW., Bldg. 410, Washington, DC 20528. Requests to make oral statements at the meeting should reach the contact person listed below by February 3, 2009. Requests to have a copy of your material distributed to each member of the committee prior to the meeting should reach the contact person at the address below by February 3, 2009. Questions and comments must be identified by DHS-2009-0003 and may be submitted by one of the following methods:

• Federal eRulemaking Portal: http://www.regulations.gov. Follow the instructions for submitting comments.

• E-mail: Niklaus.Welter@dhs.gov. Include the docket number, DHS-2009-0003 in the subject line of the message.

• Fax: 202-282-8806.

• Mail: Niklaus Welter, Department of Homeland Security, 245 Murray Lane, SW., Building 410, Washington, DC 20528.

Instructions: All submissions received must include the words “Department of Homeland Security” and the docket number for this action. Comments received will be posted without alteration at www.regulations.gov, including any personal information provided.

Docket: For access to the docket to read background documents or comments received by the Homeland Security Information Network Advisory Committee, go to http://www.regulations.gov.

FOR FURTHER INFORMATION CONTACT: Niklaus Welter, 245 Murray Lane, SW., Bldg. 410, Washington, DC 20528, Niklaus.Welter@dhs.gov, 202-282-8336, fax 202-282-8806.

SUPPLEMENTARY INFORMATION: Notice of this meeting is given under the Federal Advisory Committee Act, 5 U.S.C. App. (Pub. L. 92-463). The mission of the Homeland Security Information Network Advisory Committee is to identify issues and provide independent advice and recommendations for the improvement of the Homeland Security Information Network (HSIN) to senior leadership of the Department, in particular the Director of Operations Coordination and Planning. The agenda for this meeting will include an update on efforts concerning the improvement of HSIN, a presentation on civil-military information sharing, discussions pertaining to the governance of HSIN, and discussions pertaining to the HSIN law enforcement community.

Procedural:

This meeting is open to the public. The chairperson of the Homeland Security Information Network Advisory Committee shall conduct the meeting in a way that will, in his judgment, facilitate the orderly conduct of business. Please note that the meeting may end early if all business is completed.

Participation in HSINAC deliberations is limited to committee members and Department of Homeland Security officials.

All visitors to Bolger Center will have to pre-register to be admitted to the building. Please provide your name, telephone number by close of business on February 03, 2009, to Niklaus Welter (202-282-8336) (Niklaus.Welter@dhs.gov). Seating may be limited and is available on a first-come, first-served basis.

Information on Services for Individuals with Disabilities. For information on facilities or services for individuals with disabilities or to request special assistance at the meeting, contact Niklaus Welter as soon as possible.

Roger T. Rufe, Jr.,
Director of Operations Coordination and Planning.

[FR Doc. E9-1341 Filed 1-22-09; 8:45 am]

BILLING CODE 4410-10-P